DEPARTMENT OF ENERGY

Federal Energy Regulatory Commission

[Project No. 13318-003]

Swan Lake North Pumped Storage Project; Notice of Meeting

Commission staff will meet with representatives of the Klamath Tribes (Tribes), the Oregon State Historic Preservation Officer and other state and federal agencies (to the extent they wish to participate), and Swan Lake North Hydro LLC regarding the proposed Swan Lake North Pumped Storage Project (Project No. 13318-003). The meeting will be held at the location and time listed below: Klamath Tribes, Tribal Administration Building, 501 Chiloquin Blvd., Chiloquin, OR 97624, Phone: (541) 783-2219, Thursday, August 11, 2016, 9:00 a.m. PDT.

Members of the public and intervenors in the referenced proceeding may attend this meeting; however, participation will be limited to tribal representatives and agency personnel. If the Tribes decide to disclose information about a specific location which could create a risk or harm to an archeological site or Native American cultural resource, the public will be excused for that portion of the meeting.¹ If you plan to attend this meeting, please contact Dr. Frank Winchell at the Federal Energy Regulatory Commission. He can be reached at (202) 502-6104.

¹ Protection from public disclosure involving this kind of specific information is based upon 18 CFR 4.32(b)(3)(ii) of the Commission's regulations implementing the Federal Power Act.

Dated: July 27, 2016.
Kimberly D. Bose,
Secretary.

[FR Doc. 2016-18577 Filed 8-4-16; 8:45 am]

BILLING CODE 6717-01-P